DEPARTMENT OF VETERANS AFFAIRS

[OMB Control No. 2900-0691]

Proposed Information Collection (Learner's Perceptions Survey (LPS)); Activity: Comment Request

AGENCY: Veterans Health Administration, Department of Veterans Affairs.

ACTION: Notice.

SUMMARY: The Veterans Health Administration (VHA) is announcing an opportunity for public comment on the proposed collection of certain information by the agency. Under the Paperwork Reduction Act (PRA) of 1995, Federal agencies are required to publish notice in the Federal Register concerning each proposed collection of information, including each proposed revision of a currently approved collection, and allow 60 days for public comment in response to the notice. This notice solicits comments on information needed to identify areas for improvement in clinical training programs.

DATES: Written comments and recommendations on the proposed collection of information should be received on or before February 9, 2016.

ADDRESSES: Submit written comments on the collection of information through the Federal Docket Management System (FDMS) at www.Regulations.gov; or to Brian McCarthy, Office of Regulatory and Administrative Affairs, Veterans Health Administration (10B4), Department of Veterans Affairs, 810 Vermont Avenue NW., Washington, DC 20420 or email: Brian.McCarthy4@va.gov. Please refer to “OMB Control No. 2900-0691” in any correspondence. During the comment period, comments may be viewed online through FDMS.

FOR FURTHER INFORMATION CONTACT: Brian McCarthy at (202) 461-6345.

SUPPLEMENTARY INFORMATION: Under the PRA of 1995 (Pub. L. 104-13; 44 U.S.C. 3501-3521), Federal agencies must obtain approval from OMB for each collection of information they conduct or sponsor. This request for comment is being made pursuant to Section 3506(c)(2)(A) of the PRA.

With respect to the following collection of information, VHA invites comments on: (1) Whether the proposed collection of information is necessary for the proper performance of VHA's functions, including whether the information will have practical utility; (2) the accuracy of VHA's estimate of the burden of the proposed collection of information; (3) ways to enhance the quality, utility, and clarity of the information to be collected; and (4) ways to minimize the burden of the collection of information on respondents, including through the use of automated collection techniques or the use of other forms of information technology.

Titles

1. Learners' Perceptions Survey PR, VA Form 10-0439.

2. Learners' Perceptions Survey AH, VA Form 10-0439.

OMB Control Number: 2900-0691.

Type of Review: Revision.

Abstracts

Under the authority of Federal Law 38 U.S.C. Part V, Chapter 73, Section 7302, the Department of Veterans Affairs (VA) provides education and training to over 120,000 national cohort of health care trainees per year to assist in providing an adequate supply of health personnel for VA and the Nation. VA is further required to evaluate this program on a continuing basis and determine its effectiveness in achieving its goals (Federal Law, 38 U.S.C. Part I, Chapter 5, Section 527). In addition, the Government Performance and Results Act (GPRA) of 1993, requires Federal agencies to set goals, measure performance, and report on the accomplishments.

Affected Public: Individuals or households.

Estimated Annual Burden

a. Learners' Perceptions Survey PR, VA Form 10-0439—3,750 hours.

b. Learners' Perceptions Survey AH, VA Form 10-0439—3,750 hours.

Estimated Average Burden per Respondent

a. Learners' Perceptions Survey PR, VA Form 10-0439—15 minutes.

b. Learners' Perceptions Survey AH, VA Form 10-0439—15 minutes.

Frequency of Response: Annually.

Estimated Annual Responses

a. Learners' Perceptions Survey PR, VA Form 10-0439—15,000.

b. Learners' Perceptions Survey AH, VA Form 10-0439—15,000.

By direction of the Secretary.
Kathleen M. Manwell,
Program Analyst, VA Privacy Service, Office of Privacy and Records Management, Department of Veterans Affairs.

[FR Doc. 2015-31160 Filed 12-10-15; 8:45 am]

BILLING CODE 8320-01-P